DEPARTMENT OF HOUSING AND URBAN DEVELOPMENT

[Docket No. FR-5415-C-20]

Notice of Funding Availability (NOFA) for HUD's Fiscal Year 2010; Resident Opportunity and Self-Sufficiency (ROSS)—Service Coordinators Program; Extension of Application Due Date

AGENCY: Office of the Assistant Secretary for Public and Indian Housing, HUD.

ACTION: Notice of Funding Availability for HUD's Fiscal Year (FY) 2010 Resident Opportunity and Self-Sufficiency (ROSS) Service Coordinators Program; Extension of Application Due Date.

SUMMARY: On October 21, 2010, HUD posted on http://www.Grants.gov, its Notice of Funding Availability (NOFA) for the FY2010 Resident Opportunity and Self-Sufficiency (ROSS) Service Coordinators Program. The NOFA establishes an application due date of Monday, February 21, 2011, which inadvertently falls on the federal holiday of Washington's Birthday (commonly referred to as Presidents Day). To help ensure that applicants have sufficient time to submit their applications, are not deprived, this notice announces that HUD has posted an extension of the application due date on http://www.Grants.gov. The new deadline for submission of applications is Wednesday, February 23, 2011. Applicants do not need to download a new application or resubmit their applications as a result of this notice.

DATES: The application deadline date is February 23, 2011. Applications submitted through http://www.grants.gov must be received by Grants.gov no later than 11:59:59 p.m. eastern time on the application deadline date. Applications submitted to Grants.gov go through a validation process before they are accepted by the Grants.gov system. Please allow time for this process to ensure that you meet the timely receipt requirements. Please see the 2010 General Section for instructions for timely receipt, including actions to take if the application is rejected. Applicants should carefully read the section titled “APPLICATION and SUBMISSION INFORMATION” in the 2010 General Section for electronic application submission and receipt requirements.

FOR FURTHER INFORMATION CONTACT: Questions regarding specific program requirements should be directed to the agency contact identified in Section VII of this program NOFA. Prior to the application deadline, program staff will be available to provide general guidance, but not guidance with actually preparing the application. Questions regarding the 2010 General Section should be directed to the Office of Departmental Grants Management and Oversight at 202-708-0667 (this is not a toll-free number) or the NOFA Information Center at 800-HUD-8929 (toll-free). Persons with hearing or speech impairments may access these numbers via TTY by calling the Federal Information Relay Service at 800-877-8339. The NOFA Information Center is open between the hours of 10 a.m. and 6:30 p.m. eastern time, Monday through Friday, except Federal holidays.

Dated: December 29, 2010.
Milan Ozdinec,
Deputy Assistant Secretary for Public Housing and Indian Housing.

[FR Doc. 2010-33302 Filed 1-4-11; 8:45 am]

BILLING CODE 4210-67-P